DEPARTMENT OF COMMERCE

International Trade Administration

A-570-888

Floor-Standing, Metal-Top Ironing Tables and Parts Thereof from the People's Republic of China: Extension of the Time Limit for the Preliminary Results of the 2006/2007 Administrative Review

AGENCY: Import Administration, International Trade Administration, Department of Commerce.

EFFECTIVE DATE: April 21, 2008.

FOR FURTHER INFORMATION CONTACT: Bobby Wong or Toni Dach, AD/CVD Operations, Office 9, Import Administration, International Trade Administration, U.S. Department of Commerce, 14th Street and Constitution Avenue, N.W., Washington, DC 20230; telephone: (202) 482-0409 or (202) 482-1655, respectively.

SUPPLEMENTARY INFORMATION:

Background

On August 6, 2004, the Department of Commerce (“Department”) published in the Federal Register an antidumping duty order on floor standing, metal-top ironing tables and parts thereof from the People's Republic of China (“PRC”). See Notice of Amended Final Determination of Sales at Less Than Fair Value and Antidumping Duty Order: Floor-Standing, Metal-Top Ironing Tables and Certain Parts Thereof From the People's Republic of China, 69 FR 47868 (August 6, 2004). The Department received timely requests from Since Hardware (Guangzhou) Co., Ltd. (“Since Hardware”) and Forever Holdings Limited (“Forever Holdings”), in accordance with 19 CFR 351.213(b)(2), for an administrative review of the antidumping duty order on ironing tables and parts thereof from the PRC, which has an August annual anniversary month. Home Products International Inc., the petitioner, also requested, in accordance with 19 CFR 351.213(b)(1), an administrative review of the antidumping duty order on ironing tables and parts thereof from the PRC for Since Hardware. On September 25, 2007, the Department initiated an administrative review with respect to Since Hardware and Forever Holdings. See Initiation of Antidumping and Countervailing Duty Administrative Reviews, 72 FR 54428 (September 25, 2007).

The deadline for completion of the preliminary results in the administrative review for Since Hardware and Forever Holdings is currently May 2, 2008.

Extension of Time Limits for Preliminary Results

Section 751(a)(3)(A) of the Tariff Act of 1930, as amended (“the Act”), and section 351.213(h)(1) of the Department's regulations require the Department to issue the preliminary results of an administrative review within 245 days after the last day of the anniversary month of the order or suspension agreement for which the administrative review was requested, and the final results of the review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days.

Pursuant to section 751(a)(3)(A) of the Act and section 351.213(h) of the Department's regulations, we determine that it is not practicable to complete this administrative review within the statutory time limit of 245 days. The Department requires additional time to analyze questionnaire responses, and issue supplemental questionnaires. In particular, there are complex factors of production methodology issues that the Department requires additional time to analyze. Therefore, in accordance with section 751(a)(3)(A) of the Act and section 351.213(h)(2) of the Department's regulations, the Department is extending the time limit for the completion of these preliminary results by 120 days. Since the new deadline would have fallen on Saturday, August 30, 2008, and Monday, September 1, 2008, is a federal holiday, the deadline is Tuesday, September 2, 2008. The final results, in turn, will be due 120 days after the date of issuance of the preliminary results, unless extended.

This notice is published in accordance with sections 751(a)(3)(A) and 777(i) of the Act.

Dated: April 14, 2008.
Stephen J. Claeys,
Deputy Assistant Secretary for Import Administration.

[FR Doc. E8-8572 Filed 4-18-08; 8:45 am]

BILLING CODE 3510-DS-S